DEPARTMENT OF HEALTH AND HUMAN SERVICES

Administration for Children and Families

Announcement of the Award of Single Source Expansion Supplement Grants to 11 Personal Responsibility Education Program Innovative Strategies (PREIS) Grantees

AGENCY: Family and Youth Services Bureau, ACYF, ACF, HHS.

ACTION: Notice of the award of single source expansion supplement grants to 11 Personal Responsibility Education Program Innovative Strategies (PREIS) grantees to support the expansion of program services necessary to meet the requirements for reporting performance measures and conducting evaluation-related activities.

CFDA Number: 93.297.

Statutory Authority: Section 2953 of the Patient Protection and Affordable Care Act of 2010 (ACA), Public Law 111-148, which adds a new Section 513 to Title V of the Social Security Act, codified at 42 U.S.C. 713, authorizing the Personal Responsibility Education Program.

SUMMARY: The Administration on Children, Youth and Families (ACYF), Family and Youth Services Bureau (FYSB), Division of Adolescent Development and Support (DADS) announces the award of single source expansion supplement grants to 11 PREIS grantees for the purpose of expanding program participation and/or sites to support the increase of data necessary to determine the level of program effectiveness. In FY 2010, FYSB awarded thirteen cooperative agreement grants under Funding Opportunity Announcement (FOA) number: OPHS/OAH/TPP PREP Tier 2-2010. Under this FOA a total of $9.7 million was made available on a competitive basis to implement and test innovative strategies.

The award of 11 single source expansion supplement grants to PREIS grantees is required because of the necessary expansion of the original scope of approved activities. In the provision of evaluation related technical assistance to grantees during the first year of the project, it was determined by FYSB that all grantees needed to increase the number of program participants and/or sites for program implementation. Increased funding will help the grantee programs obtain the minimal statistical power required to report significant outcome data that can be utilized to determine the effectiveness of the implemented pregnancy prevention models. Thus, the increased number of program participants supports the evaluation requirements outlined in the FOA and by ACA.

Additionally, grantees are required to report on performance measures that were specifically defined by FYSB and are pending approval by the Office of Management and Budget under the Paperwork Reduction Act (44 U.S.C. 3501-3520). The data collection will require additional staff time and other resources to compile and report on performance indicators. Performance indicators are based upon the performance measures established by HHS, to include: (a) The number of youth served and hours of service delivery; (b) fidelity to the program model or adaptation of the program model for the target population; (c) community partnerships and competence in working in working with the target population; (d) reported gains in knowledge and intentions and changes in self-reported behaviors of participants; and (e) community data, like birth rates and the incidence of sexually transmitted infections.

The 11 single source expansion supplement grants will support activities from September 30, 2011 through September 29, 2012. The grantees are:

Grantee | City | State | Award amount
Child & Family Resources, Inc. | Tucson | AZ | $64,652.00
Childrens Hospital Los Angeles | Los Angeles | CA | 86,208.00
OhioHealth Research & Innovation Institute | Columbus | OH | 23,040.00
Oklahoma Institute for Child Advocacy | Oklahoma City | OK | 160,011.00
Demoiselle 2 Femme, NFP | Chicago | IL | 67,320.00
Philadelphia Health Management Corporation | Philadelphia | PA | 42,656.00
The Village for Families & Children Inc. | Hartford | CT | 76,113.00
Big Brothers Big Sisters of Northern Nevada | Reno | NV | 67,500.00
Cicatelli Associates Inc. | New York | NY | 100,000.00
Education Development Center, Inc. | Newton | MA | 72,289.00
Teen Outreach Pregnancy Services | Tucson | AZ | 89,000.00

DATES: September 30, 2011—September 29, 2012.

For Further Information CONTACT: Marc Clark, Director, Division of Teen Pregnancy Prevention, Family and Youth Services Bureau, 1250 Maryland Avenue SW., Suite 800, Washington, DC 20024, Phone: 202-205-8496.

Bryan Samuels,
Commissioner, Administration on Children, Youth and Families.

[FR Doc. 2012-12021 Filed 5-17-12; 8:45 am]

BILLING CODE 4184-37-P